DEPARTMENT OF THE INTERIOR

Bureau of Land Management

Privacy Act of 1974; Amendments to Existing Systems of Records

AGENCY: Bureau of Land Management, Interior.

ACTION: Proposed amendment of existing Privacy Act systems of records.

SUMMARY: In accordance with the Privacy Act of 1974 (5 U.S.C. 552a), the Bureau of Land Management of the Department of the Interior is issuing public notice of its intent to amend 27 existing Privacy Act system of records notices to add a new routine use to authorize the disclosure of records to individuals involved in responding to a breach of Federal data.

DATES: Comments must be received by May 12, 2008.

ADDRESSES: Any persons interested in commenting on these proposed amendments may do so by submitting comments in writing to the Bureau of Land Management, Privacy Act Program Manager, Laura F. Bell, 1849 C Street, NW., 750 LS, WO 560, Washington, DC 20240, or e-mail: lfbell@blm.gov.

FOR FURTHER INFORMATION CONTACT: Bureau of Land Management, Privacy Act Program Manager, Laura F. Bell, U.S. Department of the Interior, 1849 C Street, NW., 750 LS, WO 560, Washington, DC 20240, or e-mail: lfbell@blm.gov.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interests of the individual, whose information is at issue by allowing agencies to take appropriate steps to facilitate a timely and effective response to the breach, thereby improving its ability to prevent, minimize, or remedy any harm resulting from a compromise of data maintained in its systems of records. Accordingly, the Bureau of Land Management of the Department of the Interior is proposing to add a new routine use to authorize disclosure to appropriate agencies, entities, and persons, of information maintained in the following systems in the event of a data breach. These amendments will be effective as proposed at the end of the comment period unless comments are received which would require a contrary determination. The Department will publish a revised notice if changes are made based upon a review of comments received.

Dated: March 3, 2008.
Laura F. Bell,
Bureau of Land Management Privacy Act Program Manager.

SYSTEM NAMES:

BLM—2 Range Management System—Interior—LLM—2

BLM—3 Mineral Lease Management System—Interior—LLM—3

BLM—4 Coal Lease Data System—Interior—LLM—4

BLM—6 Mineral Surveyor Appointment File—Interior—LLM—6

BLM—8 Aircraft Passenger Manifest Records—Fire Control—Interior LLM—8

BLM—9 Property and Supplies Accountability—Interior—LLM—9

BLM—10 Vehicle Use Authorizations—Interior—LLM—10

BLM—12 Manpower Management—Interior—LLM—12

BLM—13 Safety Management Information—Interior—LLM—13

BLM—14 Security Clearance Files—Interior—LLM—14

BLM—15 Correspondences—Interior—LLM—15

BLM—16 Mineral and Vegetable Material Sales—Interior—LLM-16

BLM—18 Criminal Case Investigations—Interior—LLM-18

BLM—19 Civil Trespass Case Investigation Files—Interior—LLM-19

BLM—20 Employee Conduct Investigations—Interior—LLM-20

BLM—21 Travel—Interior—LLM-21

BLM—22 Financial Management—Interior—LLM-22

BLM—23 Contract Files—Interior—LLM-23

BLM—24 Copy Fee Deposit—Interior LLM-24

BLM—26 Incentive and Honor Awards—Interior—LLM-26

BLM—27 Real Estate Appraisal Roster—Interior—LLM-27

BLM—28 Adopt a Wild Horse—Interior—LLM-28

BLM—30 Uniform Accountability System—Interior—LLM-30

BLM—31 Name File System—Interior—LLM-31

BLM—32 Lands & Minerals Authorization Tracking System—Interior—LLM-32

BLM—35 Collections and Billings System—Interior—LLM-35

BLM—37 Wild Horse And Burro Program System—Interior—LLM-37

NEW ROUTINE USE:

Disclosures outside the Department of the Interior may be made:

To appropriate agencies, entities, and persons when:

(a) It is suspected or confirmed that the security or confidentiality of information in the system of records has been compromised; and

(b) The Department has determined that as a result of the suspected or confirmed compromise there is a risk of harm to economic or property interest, identity theft, or fraud, or harm to the security or integrity of this system or other systems or programs (whether maintained by the Department or another agency or entity) that rely upon the compromised information; and

(c) The disclosure is made to such agencies, entities, and persons who are reasonably necessary to assist in connection with the Department's efforts to respond to the suspected or confirmed compromise and prevent, minimize, or remedy such harm.

[FR Doc. E8-6648 Filed 3-31-08; 8:45 am]

BILLING CODE 4310-84-P